DEPARTMENT OF LABOR

Employment and Training Administration

[TA-W-91,138]

Graftech International Holdings Inc. Engineered Solutions Division, a Subsidiary of Brookfield Asset Management Inc., Anmoore, West Virginia; Notice of Affirmative Determination Regarding Application for Reconsideration

By application dated November 10, 2016, the Department of Labor (Department) received a request for administrative reconsideration from a company official of the Department's Notice of Termination of Investigation regarding workers' eligibility to apply for Trade Adjustment Assistance applicable to workers and former workers of GrafTech International Holdings Inc., Engineered Solutions Division, a subsidiary of Brookfield Asset Management Inc., Anmoore, West Virginia (subject firm). The subject firm is engaged in activities related to the production of synthetic graphite articles, such as molds and crucibles, used in high temperature applications. The Notice was issued on November 4, 2016 and has yet to be published in the Federal Register.

The Department has carefully reviewed the request for reconsideration, the existing record, and the new and additional information provided by the company official, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 15th day of November 2016.
Del-Min Amy Chen,
Certifying Officer, Office of Trade Adjustment Assistance.

[FR Doc. 2016-32011 Filed 1-4-17; 8:45 am]

BILLING CODE 4510-FN-P